NUCLEAR REGULATORY COMMISSION

[Docket No. 72-71; EA-09-072; NRC-2009-0169]

In the Matter of Detroit Edison Company; Fermi Power Plant; Independent Spent Fuel Installation; Order Modifying License (Effective Immediately)

Correction

In notice document E9-8827 beginning on page 17890 in the issue of Friday, April 17, 2009, make the following correction:

On page 17890, in the second column, the docket number should read as put forth above.

[FR Doc. Z9-8827 Filed 5-28-09; 8:45 am]

BILLING CODE 1505-01-D